DEPARTMENT OF HEALTH AND HUMAN SERVICES

Public Health Service

National Toxicology Program: Announcement of a Public Meeting To Receive Comment on the NTP Vision and Input to a Roadmap for Implementation of the Vision

Summary

The National Toxicology Program (NTP) announces a public meeting to provide all interested parties an opportunity to express their views about the NTP Vision, provide input to a roadmap for implementation of the NTP Vision and comment on the views expressed by others. The NTP Vision for the 21st Century is to move toxicology from a predominately observational science at the level of disease-specific models to a predominately predictive science focused upon a broad inclusion of target-specific, mechanism-based, biological observations. The stimulus for the NTP Vision is to develop a framework that will promote the further advancement of toxicology and refine its traditional role as a predominately observational science.

The meeting will be held on January 29, 2004, at the Lister Hill Center Auditorium (Building 38A), National Library of Medicine, National Institutes of Health, 9000 Rockville Pike, Bethesda, Maryland, 20892. The meeting will begin at 9 a.m. on January 29 and will conclude by 5 p.m. or sooner if the public comments and discussion end earlier. On-site registration will begin at 8:30 a.m. on January 29. Attendance at the meeting is limited only by the space available. Additional details about the meeting, including background information, agenda, written comments, registration and security information are provided below and are also available from the NTP Web site (http://ntp-server.niehs.nih.gov select NTP Vision Public Meeting under What's New?).

Background

The National Toxicology Program (NTP) was established in 1978 to coordinate toxicological testing programs within the Department of Health and Human Services, develop and validate improved testing methods, develop approaches and generate data to strengthen scientific knowledge about potentially hazardous substances and communicate with stakeholders. In its 25 years of existence, NTP has become a world leader in providing scientific information that improves our nation's ability to evaluate potential human health effects from chemical and physical exposures. The NTP has maintained a number of complex, interrelated research and testing programs that provide unique and critical information needed by health regulatory and research agencies to protect public health.

The last decade of the 20th century and the turn of the 21st century have produced dramatic technological advances in molecular biology and computer science. The NTP is ready to evaluate its key activities and, in a focused and concerted effort, determine how best to incorporate these new scientific technologies into its research and testing strategies and broaden scientific knowledge on the linkage between mechanism and disease. The NTP Vision is to move toxicology from a predominately observational science at the level of disease-specific models to a predominately predictive science focused upon a broad inclusion of target-specific, mechanism-based, biological observations. Over the next year, the NTP intends to develop a roadmap for implementation of its vision that will strategically position the program at the forefront for providing scientific data and the interpretation of those data for public health decision-making. The NTP will seek input to this roadmap from numerous groups, including its federal partners, its advisory committees, and the public. Additional information about the NTP Vision is available on its Web site (http://ntp-server.niehs.nih.gov select NTP Vision Public Meeting under What's New?).

Agenda

A panel that includes NTP staff and representatives of the NTP Board of Scientific Counselors and the NTP Executive Committee will receive the public comments and participate in the discussion.

Tentative Agenda

NTP Vision Public Meeting

Lister Hill Center Auditorium, National Library of Medicine, National Institutes of Health, Bethesda, Maryland.

January 29, 2004

8:30 a.m. Registration.

9 a.m. Welcome and Introductions; Presentation of the NTP Vision; and Guidelines and procedures for oral comments and discussion.

10 a.m. Public comments (10 minutes per speaker, one speaker per organization).

5 p.m. Adjournment (The meeting may adjourn earlier if the public comments and discussion are finished.)

Public Comment Encouraged

The NTP invites all interested parties to present oral comments to the panel at the meeting. For planning purposes, individuals/groups wishing to give oral comment are asked to register early and provide appropriate contact information (name; affiliation; mailing address; phone; fax; e-mail; and sponsoring organization, if any). One time slot for an oral presentation will be allotted per organization. Speakers that register early for this meeting will be assigned time on a first-come, first-served basis. Registration to speak at this meeting will also be accepted on-site. It is anticipated that at least 10 minutes will be available for each presenter to address the panel. When oral comments are read from printed text, the NTP asks that the speaker provide 20 copies of the text at registration for distribution to the panel and to supplement the record of the meeting. Written statements can supplement or may expand on an oral presentation or can be submitted in lieu of an oral presentation.

The NTP also invites the submission of written comment. Written comments should be sent to the address provided below and include contact information (name, affiliation, mailing address, phone, fax, e-mail, and sponsoring organization, if any). Comments received by January 15, 2004, will be distributed to the panel, posted on the NTP Web site prior to the meeting, and made available at the public meeting.

Registration for Meeting

This meeting is open to the public and all interested parties are invited to attend. Persons needing special assistance in order to attend are asked to contact Ms. Nan Cushing (contact information below) at least seven business days prior to the meeting. For planning purposes, persons are asked to register on-line or, if this is not possible, contact Ms. Nan Cushing (NTP Liaison and Scientific Review Office, NIEHS, P.O. Box 12233 MD A3-01, 111 T.W. Alexander Drive, Room 3123, Research Triangle Park, NC 27709; phone: (919) 541-0530; FAX: (919) 541-0295; e-mail: cushing1@niehs.nih.gov).

Access to the electronic registration form is available from the NTP Web site (http://ntp-server.niehs.nih.gov, select NTP Vision Public Meeting under “What's New?”). Please complete the form and also indicate whether you want to request time for an oral presentation. On-site registration will also be available and will begin the morning of January 29 at 8:30 a.m.

Access to the NIH Campus

Any individual seeking access to the NIH campus to attend this meeting will need to be prepared to show two forms of identification—a government-issued photo ID (e.g., Federal employee badge, driver's license, passport or green card, etc.) along with another type of identification, and, if asked, to provide pertinent information about this meeting (e.g., a copy of the meeting announcement, title of the meeting, or meeting host). Additional information about access to the NIH campus and parking is available from the NTP Web site (http://ntp-server.niehs.nih.gov, select NTP Vision Public Meeting under “What's New?”).

Dated: November 20, 2003.
Kenneth Olden,
Director, NTP.

[FR Doc. 03-30121 Filed 12-2-03; 8:45 am]

BILLING CODE 4140-01-P